DEPARTMENT OF ENERGY

Federal Energy Regulatory Commission

[Docket No. RP10-30-000]

Texas Eastern Transmission, LP; Notice of Change to Technical Conference

November 30, 2009.

On November 9, 2009, the Commission issued a notice indicating that a technical conference will be held in the above-captioned proceeding on Tuesday, December 8, 2009, at 10 a.m., in a room to be designated at the offices of the Federal Energy Regulatory Commission, 888 First Street, NE., Washington, DC 20426.

Due to the large number of participants that have expressed an interest in making a presentation at the referenced technical conference, the starting time is changed to 9 a.m. on December 8, 2009. Moreover, presentations by participants will be limited to 15 minutes, including questions. Texas Eastern will be permitted 30 minutes for its presentation, including questions.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons and staff are permitted to attend. For further information please contact David Maranville at (202) 502-6351 or e-mail David.Maranville@ferc.gov.

Kimberly D. Bose,
Secretary.

[FR Doc. E9-29035 Filed 12-4-09; 8:45 am]

BILLING CODE 6717-01-P